DEPARTMENT OF AGRICULTURE

Agricultural Marketing Service

[Doc. No. AMS-LS-12-0047]

Mandatory Country of Origin Labeling of Covered Commodities: Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension and revision to the currently approved information collection of the Mandatory Country of Origin Labeling (COOL) of Covered Commodities.

DATES: Comments must be received by February 4, 2013.

Comments: Comments should be submitted electronically at http://www.regulations.gov. Comments may also be submitted to Julie Henderson, Director, COOL Division, Livestock, Poultry, and Seed Program, Agricultural Marketing Service, U.S. Department of Agriculture (USDA); STOP 0216; 1400 Independence Avenue SW., Room 2620-S; Washington, DC 20250-0216. All comments should reference docket number AMS-LS-12-0047 and note the date and page number of this issue of the Federal Register.

Submitted comments will be available for public inspection at http://www.regulations.gov or at the above address during regular business hours. Comments submitted in response to this Notice will be included in the records and will be made available to the public. Please be advised that the identity of the individuals or entities submitting the comments will be made public on the Internet at the above address.

FOR FURTHER INFORMATION CONTACT: Julie Henderson, Director, COOL Division, AMS, USDA, by telephone at (202) 720-4486, or email at julie.henderson@ams.usda.gov.

SUPPLEMENTARY INFORMATION: Title: Mandatory Country of Origin Labeling of Covered Commodities.

OMB Number: 0581-0250.

Expiration Date of Approval: March 31, 2013.

Type of Request: Request for Revision of a Currently Approved Information Collection

Abstract: The 2002 and 2008 Farm Bills amended the Agricultural Marketing Act of 1946 to require retailers to notify their customers of the country of origin of muscle cuts and ground beef (including veal), lamb, pork, chicken, and goat; wild and farm-raised fish and shellfish; perishable agricultural commodities; peanuts, pecans, and macadamia nuts; and ginseng. An interim final rule for mandatory COOL for fish and shellfish became effective on April 4, 2005. An interim final rule for the remaining covered commodities became effective on September 30, 2008. On January 15, 2009, a final rule was published for all covered commodities which became effective March 16, 2009. Enforcement activities have been conducted since 2006 utilizing cooperative agreements established with State agencies.

Individuals who supply covered commodities, whether directly to retailers or indirectly through other participants in the marketing chain, are required to establish and maintain country of origin and, if applicable, method of production information for the covered commodities and supply this information to retailers. As a result producers, handlers, manufacturers, wholesalers, importers and retailers of covered commodities are affected.

This public reporting burden is a necessary to ensure accuracy of country of origin and method of production declarations relied upon at the point of sale at retail. The public reporting burden also assures that all parties involved in supplying covered commodities to retail stores maintain and convey accurate information as required.

Estimate of Burden: Public reporting burden for recordkeeping storage and maintenance is estimated to average 19 hours per year per individual.

Respondents: Retailers, wholesalers, producers, handlers, and importers.

Estimated Number of Respondents: 1,655,905.

Estimated Total Annual Responses: 31,437,002.

Estimated Number of Responses per Respondent: 19.

Estimated Total Annual Burden on Respondents: 31,437,002.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: November 28, 2012.
David R. Shipman,
Administrator, Agricultural Marketing Service.

[FR Doc. 2012-29167 Filed 12-3-12; 8:45 am]

BILLING CODE 3410-02-P